FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 30, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov mailto: Nicholas_A._Fraser@omb.eop.gov and to Judith B. Herman, Federal Communications Commission, via the Internet at Judith-b.herman@fcc.gov. To submit your PRA comments by email send them to: PRA@fcc.gov mailto: PRA@fcc.gov.

FOR FURTHER INFORMATION CONTACT: Judith B. Herman, Office of Managing Director, FCC, at 202-418-0214.

SUPPLEMENTARY INFORMATION: OMB Control Number: 3060-0599.

Title: Section 90.187, Trunking in the Bands Between 150 and 512 MHz; and Sections 90.425 and 90.647, Station Identification.

Form Number: N/A.

Type of Review: Revision of a currently approved collection.

Respondents: Business or other for-profit entities and state, local or tribal government.

Number of Respondents: 6,679 respondents; 6,679 responses.

Estimated Time per Response: .25 hours to 3 hours.

Frequency of Response: On occasion reporting requirement.

Obligation to Respond: Required to obtain or retain benefits. Statutory authority for this information collection is contained in 47 U.S.C. sections 154(i), 309(j) and 332 of the Communications Act of 1934, as amended.

Total Annual Burden: 8,231 hours.

Total Annual Cost: N/A.

Privacy Impact Assessment: No impacts.

Nature and Extent of Confidentiality: No questions of a confidential nature are asked.

Needs and Uses: The Commission will submit this information collection during this comment period to obtain the full, three year clearance from the Office of Management and Budget (OMB). The Commission is requesting approval for a revision.

On April 18 2013, the Commission in a Fifth Report and Order, FCC 13-52, adopted changes to 47 CFR 90.425 of the Commission's rules to allow Private Land Mobile Radio (PLMR) licensees in the bands between 150 and 512 MHz that are licensed on an exclusive basis to transmit station identification information in digital format, on the condition that the licensee will provide the Commission with information sufficient to decode the digital transmission to ascertain the call sign transmitted. However, this gives a new group of licensee stations (PLMRs) an option regarding the method of transmission of required call sign information; it modifies the existing burden, and slightly increase the in-house cost burden—specifically the cost associated with providing the Commission sufficient information to decode the transmission—unless they choose the digital transmission option. Finally, the other part of this revision is adding one additional rule section which is 90.187 to this existing information collection.

The information requested in this collection is used by the Commission staff to enable the FCC to evaluate the accuracy of frequency coordination pursuant to its rule under 47 CFR sections 90.187, 90.425 and 90.647.

OMB Control Number: 3060-0192.

Title: Section 87.103, Posting Station License.

Form Number: N/A.

Type of Review: Extension of a currently approved collection.

Respondents: Business or other for-profit entities, not-for-profit institutions and state, local or tribal government.

Number of Respondents: 34,857 respondents; 34,857 responses.

Estimated Time per Response: .25 hours.

Frequency of Response: Recordkeeping requirement.

Obligation to Respond: Required to obtain or retain benefits. Statutory authority for this information collection is contained in 47 U.S.C. section 303 of the Communications Act of 1934, as amended.

Total Annual Burden: 8,714 hours.

Total Annual Cost: N/A.

Privacy Impact Assessment: N/A.

Nature and Extent of Confidentiality: There is no need for confidentiality.

Needs and Uses: The Commission will submit this expiring information collection during this comment period to obtain the full, three year clearance from the Office of Management and Budget (OMB). The Commission is requesting approval for an extension (no change to the recordkeeping requirement).

The recordkeeping requirement in Section 87.103 is necessary to demonstrate that all transmitters in the Aviation Service are properly licensed in accordance with the requirements of Section 303 of the Communications Act of 1934, as amended, 47 U.S.C. section 303, No. 2020 of the International Radio Regulations and Article 30 of the Convention on International Civil Aviation.

The information is used by FCC staff during inspections and investigations to ensure the particular station is licensed and operated in compliance with applicable rules, statutes and treaties.

OMB Control Number: 3060-1159.

Title: Part 25—Satellite Communications; and Part 27—Miscellaneous Wireless Communications Services in the 2.3 GHz Band.

Form Number: N/A.

Type of Review: Revision of a currently approved collection.

Respondents: Business or other for-profit entities.

Number of Respondents: 158 respondents; 5,605 responses.

Estimated Time per Response: .5 hours to 40 hours

Frequency of Response: On occasion and quarterly reporting requirements, recordkeeping requirement and third party disclosure requirements.

Obligation to Respond: Mandatory. Statutory authority for this information collection is contained in 47 U.S.C. sections 154, 301, 302(a), 303, 309, 332, 336 and 337 of the Communications Act of 1934.

Total Annual Burden: 24,572 hours.

Total Annual Cost: $928,200.

Privacy Impact Assessment: N/A.

Nature and Extent of Confidentiality: There is no need for confidentiality.

Needs and Uses: The Commission will submit this information collection during this comment period to obtain the full, three year clearance from the Office of Management and Budget (OMB). The Commission is requesting approval for a revision. There are changes to the Commission's burden estimates. The Commission is now reporting a 1,065 hour increase adjustment. This is due to a recalculation of the previous burden estimates. There is no change in the cost estimates.

On October 17, 2012, the Commission adopted an Order on Reconsideration in WT Docket No. 07-293, IB Docket No. 95-91, GEN Docket No. 90-357, FCC 12-130, which affirmed, modified and clarified the 1st and 2nd Report and Orders.

Among the actions taken in the Order on Reconsideration:

• Revised the technical rules to enhance the ability of WSC licensees to deploy mobile broadband networks while establishing additional safeguards to protect neighboring SDARS, AMT and DSN networks from harmful interference.

• Prohibited WCS mobile and portable devices' transmissions in WCS Blocks C and D to further protect SDARS operations.

• Relaxed the WCS licensee notification requirements regarding low-power WCS stations and minor WCS station modifications, and clarified WCS notification and coordination procedures.

• Restarted and provided a limited extension of the WCS performance period to enable licensees to respond to revisions of technical rules.

The information filed by WCS licensees in support of their construction notifications will be used to determine whether licensees have complied with the Commission's performance benchmarks. Further, the information collected by licensees in support of their coordination obligations will help avoid harmful interference to SDARS, AMT and DSN operations in other spectrum bands.

Federal Communications Commission.
Marlene H. Dortch,
Secretary, Office of the Secretary, Office of Managing Director.

[FR Doc. 2013-21147 Filed 8-29-13; 8:45 am]

BILLING CODE 6712-01-P